OFFICE OF PERSONNEL MANAGEMENT

Proposed Collection; Comment Request for Review of a New Information Collection; OPM Form 1644

AGENCY: Office of Personnel Management.

ACTION: Notice.

SUMMARY: In accordance with the Paperwork Reduction Act of 1995 (Public Law 104-13, May 22, 1995), this notice announces that the Office of Personnel Management (OPM) intends to submit to the Office of Management and Budget a request for review of a new information collection. OPM Form 1644, Child Care Provider Information: Care Tuition Assistance Program for Federal Employees, is used to verify that child care providers are licensed and/or regulated by local and/or State authorities. Agencies need to know that child care providers to whom they make disbursements in the form of tuition assistance subsidies, are licensed and/or regulated by local and/or State authorities.

Pub. L. 106-58, passed by Congress on September 29, 1999, permits Federal agencies to use appropriated funds to help their lower income employees with their costs for child care. It is up to the agencies to decide on whether to implement this law. This is a new law and the extent to which it will be implemented, including the number of providers that will be involved, cannot be easily predicted. The form will take approximately 10 minutes to complete by each provider. The annual estimated burden is 83.5 hours.

Comments are particularly invited on:

—Whether the form adequately captures the information needed to verify child care provider State and/or local licensure and regulation.

—Whether our estimate of the public burden of this collection is accurate, and based on valid assumptions and methodology; and

—Ways in which we can minimize the burden of the collection of information on those who are to respond, through use of the appropriate technological collection techniques or other forms of information technology.

For copies of this proposal, contact Mary Beth Smith-Toomey on 202-606-8358, or e-mail to mbtoomey@opm.gov.

DATES: Comments on this proposal should be received on or before April 16, 2000.

ADDRESSES: Send or deliver comments to:

Anice V. Nelson, Director, Family-Friendly Workplace Advocacy Office, U.S. Office of Personnel Management, 1900 E St. NW, Washington, DC 20415.

And

Joseph Lackey, Agency Desk Officer, Office of Management and Budget, 725 17th St. NW Room 10235, Washington, DC 20503.

FOR INFORMATION REGARDING ADMINISTRATION COORDINATION CONTACT: Pat Kinney, Work/Life Team Leader, Family-Friendly Workplace Advocacy Office, (202) 606-1313.

U.S. Office of Personnel Management.
Janice R. Lachance,
Director.

[FR Doc. 00-8399 Filed 4-5-00; 8:45 am]

BILLING CODE 6325-01-P